DEPARTMENT OF COMMERCE

Foreign-Trade Zones Board

[B-23-2015]

Foreign-Trade Zone (FTZ) 93—Raleigh-Durham, North Carolina; Notification of Proposed Production Activity; Cormetech, Inc. (Selective Catalyst Reduction Catalysts), Durham, North Carolina

The Triangle J Council of Governments, grantee of FTZ 93, submitted a notification of proposed production activity to the FTZ Board on behalf of Cormetech, Inc., located in Durham, North Carolina. The notification conforming to the requirements of the regulations of the FTZ Board (15 CFR 400.22) was received on April 9, 2015.

A separate request for subzone designation at the Cormetech facility is planned and will be processed under Section 400.31 of the FTZ Board's regulations. The facility is used for the production of selective catalyst reduction catalysts and related elements (logs), which are used for emissions reduction in power generation, industrial, marine and petrochemical applications. Pursuant to 15 CFR 400.14(b), FTZ activity would be limited to the specific foreign-status materials and components and specific finished products described in the submitted notification (as described below) and subsequently authorized by the FTZ Board.

Production under FTZ procedures could exempt Cormetech from customs duty payments on the foreign status materials and components used in export production. On its domestic sales, Cormetech would be able to choose the duty rate during customs entry procedures that applies to selective catalyst reduction catalysts and related elements (free) for the foreign status inputs noted below. Customs duties also could possibly be deferred or reduced on foreign status production equipment.

The components and materials sourced from abroad include: Anatase titanium dioxide; glass fiber; clay; carboxyl methyl cellulose; polypropylene (RP chop); polyethylene oxide (PEO); ammonium metavanadate (AMT); hydroxypropyl methylcellulose (methocel); manganese acetate; vanadyl oxalate; ammonium heptamolybdate (AHM); pressing/lubricating agents; ammonium polyvanadate; and, honeycomb ceramic porcelain (duty rate ranges from free to 6.5%).

Public comment is invited from interested parties. Submissions shall be addressed to the FTZ Board's Executive Secretary at the address below. The closing period for their receipt is June 2, 2015.

A copy of the notification will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

FOR FURTHER INFORMATION CONTACT: Pierre Duy at Pierre.Duy@trade.gov or (202) 482-1378.

Dated: April 16, 2015.
Andrew McGilvray,
Executive Secretary.

[FR Doc. 2015-09532 Filed 4-22-15; 8:45 am]

BILLING CODE 3510-DS-P